DEPARTMENT OF THE INTERIOR

National Park Service

[NPS-WASO-NRNHL-DTS#-33945; PPWOCRADI0, PCU00RP14.R50000]

National Register of Historic Places; Notification of Pending Nominations and Related Actions

AGENCY: National Park Service, Interior.

ACTION: Notice.

SUMMARY: The National Park Service is soliciting electronic comments on the significance of properties nominated before May 14, 2022, for listing or related actions in the National Register of Historic Places.

DATES: Comments should be submitted electronically by June 10, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 14, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Dallas County

Northern Heights Presbyterian Church (Civil Rights Movement in Selma, Alabama MPS), 1575 Marie Foster St., Selma, MP100007813

CALIFORNIA

Contra Costa County

ROBERT GRAY (hydrographic survey vessel), 800 Wharf St., Richmond, SG100007817

San Mateo County

Timby, Henry, House, 621 Knoll Dr., San Carlos, SG100007818

Solano County

Wednesday Club of Suisun, 225 Sacramento St., Suisun, SG100007819

MISSISSIPPI

Union County

B.F. Ford School, 507 Oak St., New Albany, SG100007845

MISSOURI

Cape Girardeau County

Shady Grove Cemetery, 502 Cty. Rd. 211, Gordonville vicinity, SG100007826

Jackson County

Kellogg-Mackay Company Buildings (Railroad Related Historic Commercial and Industrial Resources in Kansas City, MO MPS), 2020-2030 Walnut St., Kansas City, MP100007816

Lafayette County

Machpelah Cemetery, 900 South 20th St., Lexington, SG100007825

Mississippi County

Russell Hotel, 200 East Commercial St., Charleston, SG100007832

OHIO

Cuyahoga County

Euclid Avenue Historic District (Boundary Increase), 1835 to 1937 Prospect Ave. East, Cleveland, BC100007815

Monmouth Building (Apartment Buildings in Ohio Urban Centers, 1870-1970 MPS), 11619 Euclid Ave., Cleveland, MP100007831

Baldwin-Wallace College South Campus Historic District (Boundary Increase), 84, 114, 115, 125, 144 Tressel and 191 East Center Sts., 275 Eastland Rd., Berea, BC100007833

Hamilton County

Evanston Historic District, Montgomery Rd. between Brewster and Rutland Aves., Cincinnati, SG100007811

Montgomery County

O. P. Boyer's and Sons Funeral Home, 609 West Riverview Ave., Dayton, SG100007812

VERMONT

Chittenden County

Sloop Island Canal Boat (Canal Boat Wrecks of Lake Champlain in Vermont and New York MPS), L. Champlain, Charlotte, MP100007843

Lamoille County

Valley Hall, 5503 VT 100, Hyde Park, SG100007829

Windsor County

Bridgewater Village School (Educational Resources of Vermont MPS), 76 Southgate Loop, Bridgewater, MP100007830

A request for removal has been made for the following resources:

TENNESSEE

Benton County

Rushing, John, Farm, 5760 North TN 69A, Camden vicinity, OT99001587

Carroll County

Hillsman House, Old Hinkledale-McKenzie Rd., Trezevant vicinity, OT82003955

Dickson County

Shule, Peter Paul, Barn, Denny Rd., Sylvia vicinity, OT82003967

Maury County

Derryberry House, New Lasea Rd. east of jct. with I 65, Spring Hill vicinity, OT90001656

Shelby County

LeMoyne Gardens Public Housing Project (Public Housing Projects in Memphis MPS), Walker, Porter, Provine, and Neptune Sts., Memphis, OT96000820

Williamson County

Liberty Hill School (Williamson County MRA), Crow Cut Rd., Liberty Hill, OT88000315

Scales, Joseph, House (Williamson County MRA), Off Cox Rd. 1 mi. west of US Alt. 41, Triune vicinity, OT88000351

Additional documentation has been received for the following resources:

ALABAMA

Perry County

Marion Courthouse Square Historic District (Additional Documentation), 210, 301 Pickens St., Marion, AD96000111

VIRGINIA

Winchester Independent City

Winchester Historic District, US 522, US 11 and U.S. 50/17, Winchester, AD80004318

(Authority: Section 60.13 of 36 CFR part 60)

Dated: May 17, 2022.
Sherry A. Frear,
Chief, National Register of Historic Places/National Historic Landmarks Program.

[FR Doc. 2022-11306 Filed 5-25-22; 8:45 am]

BILLING CODE 4312-52-P